FEDERAL ELECTION COMMISSION

Sunshine Act Meetings

TIME AND DATE: Tuesday, July 15, 2025 at 10:30 a.m.

PLACE: 1050 First Street NE, Washington, DC and Virtual (This meeting will be a hybrid meeting).

STATUS: This meeting will be closed to the public.

MATTERS TO BE CONSIDERED: Matters concerning participation in civil actions or proceedings or arbitration.

* * * * *

CONTACT PERSON FOR MORE INFORMATION: Myles Martin, Deputy Press Officer, Telephone: (202) 694-1221.

(Authority: Government in the Sunshine Act, 5 U.S.C. 552b.)

Laura E. Sinram,
Secretary and Clerk of the Commission.

[FR Doc. 2025-12886 Filed 7-8-25; 4:15 pm]

BILLING CODE 6715-01-P